DEPARTMENT OF THE INTERIOR

Bureau of Land Management

[AZ-330-07-1232-EB-AZ07]

Notice of Proposed Supplementary Rules on Public Lands Managed by the Lake Havasu Field Office, Arizona and California With Request for Comment

AGENCY: Bureau of Land Management, Interior.

ACTION: Proposed Supplementary Rules for the Lake Havasu Field Office.

SUMMARY: The BLM Lake Havasu Field Office is proposing supplementary rules to implement decisions of the Lake Havasu Field Office Resource Management Plan (2007), to protect valuable and fragile natural and cultural resources, and to provide for public safety and enjoyment.

DATES: We invite public comments until May 5, 2008.

ADDRESSES: Mail or hand deliver all comments concerning the proposed supplementary rules to the Bureau of Land Management, Lake Havasu Field Office, 2610 Sweetwater Avenue, Lake Havasu City, Arizona 86406. E-mailed comments may be sent to Lake_Havasu@blm.gov; or you may access the Federal eRulemaking Portal: http://www.regulations.gov.

FOR FURTHER INFORMATION CONTACT: Mike Henderson, Assistant Field Manager, or Michael Dodson, Field Staff Law Enforcement Ranger, Bureau of Land Management, Lake Havasu Field Office, 2610 Sweetwater Avenue, Lake Havasu City, Arizona 86406; telephone 928-505-1200.

SUPPLEMENTARY INFORMATION:

I. Public Comment Procedure

II. Background

III. Discussion of Supplementary Rules

IV. Procedural Matters

I. Public Comment Procedure

Written comments on the proposed supplementary rules should be specific, confined to issues pertinent to the proposed supplementary rules, and should explain the reason for any recommended change. Where possible, comments should reference the specific section or paragraph of the rule that the comment is addressing. BLM need not consider: (a) comments that BLM receives after the close of the comment period (see DATES), unless they are postmarked or electronically dated before the deadline, or (b) comments delivered to an address other than those listed above (see ADDRESSES). You may also access and comment on the proposed supplementary rules at the Federal eRulemaking Portal by following the instructions at that site (see ADDRESSES).

Comments, including names, street addresses, and other contact information of respondents, will be available for public review at the Lake Havasu Field Office, 2610 Sweetwater Avenue, Lake Havasu City, Arizona 86406, during regular business hours (8 a.m. to 4:30 p.m.), Monday through Friday, except Federal holidays.

Before including your address, telephone number, email address, or other personal identifying information in your comment, be advised that your entire comment—including your personal identifying information—may be made publicly available at any time. While you can ask us in your comment to withhold from public review your personal identifying information, we cannot guarantee that we will be able to do so.

II. Background

The following supplementary rules are created to implement the Lake Havasu Resource Management Plan on public lands within the planning area, and for continued management of these specific areas: Lake Havasu Shoreline, Parker Strip Recreation Management Area, Craggy Wash, and Swansea Townsite.

The Lake Havasu Field Office Resource Management Plan covers 1.3 million acres of public lands in Arizona and California, adjacent to the Colorado River in the counties of Mohave, Maricopa, and La Paz (Arizona), and San Bernardino (California).

Authority for the designation of fee sites is the Federal Lands Recreation Enhancement Act (FLREA) in (16 U.S.C. 6801-6814), which authorizes the BLM to charge fees at recreation sites through December 8, 2014. It provides for different kinds of fees, criteria for charging fees, public participation in determining fees, and the establishment of one interagency recreation pass. The BLM can use the revenues collected without further appropriation, and most of the funds are used for improvements at the recreation fee sites.

The proposed supplementary rules for the Lake Havasu Resource Management Plan are part of the management of the BLM Lake Havasu Shoreline Program, initiated in 1997 for the management of shoreline recreation and riparian resources. The area includes the shoreline and boat-in sites as Federal recreation fee sites. The sites were developed as designated fee sites by Arizona State Parks while the lands were under a lease administered by the BLM. The lease was voluntarily terminated, leaving the sites to return to the jurisdiction of the BLM.

The primary purpose of the Lake Havasu Shoreline Program is to provide areas for boating, camping, and day use. The recreation sites, designated as camps or day use sites, are in areas traditionally used by boat camping visitors. Arizona State Parks selected designated sites using criteria based on visitor use patterns, availability of shoreline access, and a need to establish sanitation facilities along heavily used shoreline areas. This program was established to accommodate the increasing demand for shoreline recreational sites, and to improve management of the natural resources. The designation of fee sites assures that specific locations are available for such use year after year.

The Parker Strip Recreation Management Area experiences high visitor use and contains campgrounds, day use areas, off-highway vehicle use areas, boat ramps, picnic areas, concession operated resorts, and the Parker Dam Road National Backcountry Byway.

The Craggy Wash area, located directly adjacent to the north side of the Lake Havasu City Municipal Airport and east of State Route 95, is heavily used for dispersed camping during the cooler months of the year (October to April). The area is also frequented by target shooters, off-highway vehicles, sightseers, bicyclists, and hikers. Frequently, as many as 300 visitors may be in the area at one time.

These supplementary rules replace existing rules for the Lake Havasu Shoreline, Aubrey Hills area, Craggy Wash area, Standard Wash area, Desert Bighorn Sheep Lambing Grounds (in Lake Havasu City, AZ), the Parker Strip Recreation Area (adjacent to the Colorado River in AZ and CA), and the Swansea Townsite (in La Paz County, AZ). Existing supplementary rules were published in the Federal Register on September 15, 2003 (68 FR 54004-54007).

III. Discussion of Supplementary Rules

The BLM has developed these proposed supplementary rules to manage continued multiple use of public lands. Under the authority of 43 U.S.C. 1733(a) and 43 CFR 8365.1-6, the BLM establishes the following supplementary rules for public lands administered under the Lake Havasu Field Office Resource Management Plan.

These proposed supplementary rules replace previous rules published in the Federal Register on September 15, 2003 (68 FR 54004) and May 21, 1998 (63 FR 27995). The proposed supplementary rules for the Lake Havasu Shoreline Area apply to the BLM-managed lands within 1,000 linear feet of the high water mark (450-foot elevation line) of Lake Havasu, located in Mohave and La Paz Counties in Arizona, and in San Bernardino County, California. These rules also apply to portions of Lake Havasu located within 500 linear feet of designated campsites, day use sites, fishing docks, boat docks, and swimming beaches. Included in this area are the following currently designated camps (listed by their location along the lake's Arizona shoreline from north to south):

Bluebird

Wren Cove (2 sites).

Mallard Cove (6 sites).

Teal Point (2 sites).

Widgeon Key.

Road Runner (2 sites).

Solitude Cove.

Balance Rock Cove.

Friendly Island (4 sites).

Goose Bay (2 sites).

Pilot Rock (3 sites).

Steamboat Cove (4 sites).

Buzzard Cove.

Eagle Cove.

Eagle Point.

Ewe Camp.

Rachel's Camp.

Linda's Camp.

Sand Isle (3 sites).

Standard Wash (3 sites).

Echo Cove (3 sites).

Coyote Cove (2 sites).

BLM Camp (2 sites).

Whyte's Retreat (2 sites).

Rocky Landing (3 sites).

Satellite Cove (3 sites).

Hum Hum Cove (2 sites).

Cove of the Little Foxes.

Disneyland (3 sites).

Gnat Keys (2 sites).

Hi Isle (10 sites).

Big Horn (2 sites).

Bass Bay (2 sites).

Larned Landing (3 sites).

Bill Williams (5 sites).

The proposed supplementary rules for the Parker Strip Recreation Management Area replace supplementary rules for the Parker Strip Recreation Area published on September 15, 2003 (68 FR 54004), and October 12, 1995 (60 FR 53194), and the supplementary rules for the Empire Landing and Crossroads Campgrounds, which are situated within the Parker Strip Recreation Management Area, published May 18, 1998 (63 FR 27316). These proposed supplementary rules apply to the Parker Strip Recreation Management Area, which is defined as:

Gila and Salt River Meridian, Arizona

T11N, R18W,

Sec. 15, 16, 22, 28, and 34.

T10N, R18W,

Sec. 5 (W1/2, NW1/4, SW1/4),

Sec. 6,

Sec. 7, Lots 1-4, (NE1/4, N1/2, SE1/4, SW1/4, SE1/4)

Sec. 18 (Lot 1, NW1/4, NE1/4).

T10N, R19W,

Sec. 12,

Sec. 13 (N1/2, N1/2, N1/2, SW1/4, NE1/4, NW1/4, SE1/4, NE1/4, N1/2, SE1/4, NW1/4, SW1/4, NW1/4, W1/2, SW1/4),

Sec. 14, 22 and 23,

Section 24 (W1/2, NW1/4).

San Bernardino Meridian, California

T2N, R27E, all.

T2N, R26E,

Sec. 1, 11-15, 21-27 and 34-36.

T1N, R26E,

Sec. 2, 3, 10, and 11.

The proposed rules for the Craggy Wash area replace supplementary rules for Craggy Wash published September 15, 2003 (68 FR 54004). The proposed supplementary rules for dispersed camping in the Craggy Wash area are necessary to manage the high volume of visitation to the area during the fall, winter, and spring seasons. The Craggy Wash area is defined as public lands located with the following legal description:

Gila and Salt River Meridian, Arizona

T14N, R20W,

Sec. 4 (N1/2),

Sec. 3 (N1/2),

Sec. 2 (N1/2).

T15N, R20W,

Sec. 33, 34, 35, 36.

The proposed supplementary rules for Swansea Townsite replace previously published rules. The Swansea Townsite area is defined as public lands located with the following legal description:

Gila and Salt River Meridian, Arizona

T10 N, R15W,

Sec. 28, W1/2 SW1/4;

Sec. 29, S1/2;

Sec. 32, N1/2;

Sec. 33, W1/2 NW1/4.

IV. Procedural Matters

The principal author of these supplementary rules is Michael Dodson, Field Staff Law Enforcement Ranger, BLM Lake Havasu Field Office.

Regulatory Planning and Review (Executive Order (EO) 12866)

These supplementary rules are not significant and are not subject to review by the Office of Management and Budget under EO 12866.

(1) These supplementary rules will not have an effect of $100 million or more on the economy. They will not adversely affect in a material way the economy, productivity, competition, jobs, the environment, public health or safety, or State, local, or tribal governments or communities.

(2) These supplementary rules will not create a serious inconsistency or otherwise interfere with an action taken or planned by another agency.

(3) These supplementary rules do not alter the budgetary effects or entitlements, grants, user fees, or loan programs or the rights or obligations of their recipients.

(4) These supplementary rules do not raise novel legal or policy issues.

The supplementary rules will not affect legal commercial activity but merely contain rules of conduct for public use of a limited selection of public lands.

Regulatory Flexibility Act

The Department of the Interior certifies that these supplementary rules will not have a significant economic effect on a substantial number of small entities under the Regulatory Flexibility Act (5 U.S.C. 601 et seq.). The supplementary rules will not affect legal commercial activity but will govern conduct for public use of a limited selection of public lands.

Small Business Regulatory Enforcement Fairness Act (SBREFA)

These supplementary rules do not constitute a major rule under 5 U.S.C. 804(2), the Small Business Regulatory Enforcement Fairness Act. These supplementary rules:

(1) Do not have an annual effect on the economy of $100 million or more. (See the discussion under Regulatory Planning and Review, above.)

(2) Will not cause a major increase in costs or prices for consumers, individual industries, Federal, State, or local government agencies, or geographic regions. (See the discussion above under Regulatory Flexibility Act, above.)

(3) Do not have significant adverse effects on competition, employment, investment, productivity, innovation, or the ability of U.S. based enterprises to compete with foreign-based enterprises.

Unfunded Mandates Reform Act

These supplementary rules do not impose an unfunded mandate on State, local, or tribal governments or the private sector of more than $100 million per year. The supplementary rules do not have a significant or unique effect on State, local, or tribal governments or the private sector. The supplementary rules have no effect on governmental or tribal entities. A statement containing the information required by the Unfunded Mandates Reform Act (2 U.S.C. 1531 et seq.) is not required.

Takings (EO 12630)

In accordance with EO 12630, the supplementary rules do not have significant takings implications. The enforcement provision in the supplementary rules does not include any language requiring or authorizing forfeiture of personal property or any property rights. Executive Order 12630 addresses concerns based on the Fifth Amendment dealing with private property taken for public use without compensation. The land covered by the supplementary rules is public land managed by the BLM; therefore, no private property is affected. A takings implications assessment is not required.

Federalism (EO 13132)

In accordance with EO 13132, the BLM finds that the supplementary rules do not have sufficient federalism implications to warrant the preparation of a federalism summary impact statement. The supplementary rules do not have substantial direct effects on the states, on the relationship between the National Government and the states, or on the distribution of power and responsibilities among the various levels of government. The supplementary rules do not preempt state law.

Civil Justice Reform (EO 12988)

In accordance with EO 12988, we have determined that these supplementary rules do not unduly burden the judicial system and meet the requirements of sections 3(a) and 3(b)(2) of the Order.

Consultation and Coordination With Indian Tribal Governments (EO 13175)

In accordance with EO 13175, we have found that this final rule would not include policies that have tribal implications. The supplementary rules would not affect lands held for the benefit of Indians, Aleuts, or Eskimos.

Paperwork Reduction Act

These supplementary rules do not contain information collection requirements that the Office of Management and Budget must approve under the Paperwork Reduction Act (44 U.S.C. 3501 et seq.).

National Environmental Policy Act

The NEPA analysis for the decisions outlined in the Supplementary Rules was presented in the Draft (BLM, 2005) and Final Environmental Impact Statements (BLM, 2006). The decisions were approved in the Record of Decision (ROD) and Resource Management Plan (RMP) on May 10, 2007. The proposed supplementary rules allow Law Enforcement Rangers to implement the RMP decisions. These supplementary rules do not constitute a major Federal action significantly affecting the quality of the human environment.

Under the authority of 43 U.S.C. 1733(a) and 43 CFR 8365.1-6, the BLM proposes to establish the following supplementary rules.

Supplementary Rules for All Public Lands Administered Under the Lake Havasu Field Office Resource Management Plan (2007)

1. Collection of dead and down wood is allowed only within 100 feet of a dispersed campsite and only for use in campfires as defined in 43 CFR 9212.0-5(e). The amount of firewood collected may not exceed the amount reasonably necessary to enjoy a traditional campfire. Destruction, gathering or vandalism of live vegetation is prohibited. On-site collection or ignition of any other form of wood, such as building materials, artifacts, picnic tables, signs, or facilities from public lands is strictly prohibited. The use of commercially available firewood from off-site sources is recommended and strongly encouraged. Bonfires or other fire that exceeds a campfire as defined in 43 CFR 9212.0-5(e) are prohibited. Any person responsible for a campfire must possess on-site at least one means of rapidly extinguishing the fire, which may include but is not limited to shovel, fire blanket, at least five gallons of water, or a proper fire extinguisher. Leaving an active campfire unattended is prohibited (43 CFR 9212.1(d)).

2. All activities involving the use of paintballs are prohibited in any wilderness area, any wilderness study area, and any area of critical environmental concern, or within one-quarter mile of any established facilities, sites, campgrounds, residences, trailheads, staging areas, roads or other special designations. This also applies to any other area posted as prohibiting paintball activities, and is in effect even if commercially available and marketed biodegradable paintball materials are being used. The use of any type of paintball materials is prohibited in these areas. In authorized areas, paintball materials must be commercially manufactured and biodegradable.

3. In the Standard Wash Off-Highway Vehicle Use Area (Open Area pending), and the Shea Road/Osborn Wash Off-Highway Vehicle Use Area (Open Area pending), all motorized vehicle use and access shall be managed to restrict such use to existing roads and trails, until such time that appropriate environmental clearances are obtained. No person shall engage in motorized travel off existing routes (such as off-highway vehicle free-play or cross-country travel) until such time as these areas are authorized opened for that use. Upon full environmental clearance of both Off-Highway Vehicle Use Areas and re-designation as Open Areas, this Supplementary Rule shall become null and void. However, each Open Area may obtain clearance and be opened for such use independently of each other and at different times.

4. Dispersed camping in undeveloped areas is authorized without permit for up to 14 days within any 28-day period. After the 14th day, campers must move beyond a 25-mile radius of their previous camp. This does not apply to concessions, public agency leases, and Long-Term Visitor Areas.

5. Overnight camping at the Lake Havasu Shoreline sites, Swansea Townsite, Beale Slough, and the Three Rivers Riparian District is limited to those recreation sites specifically designated for this use. Overnight camping at a site that is not specifically designated or assigned for such use is prohibited.

Supplementary Rules for the Lake Havasu Shoreline Area

1. You must pay a fee in order to use a designated recreation site, including occupying a site for any use exceeding 20 minutes.

2. You must not moor any watercraft or floating platform at a recreation site, or offshore in the vicinity or cove of any such site for more than 20 minutes without paying the required amenity fee. The fees will be in accordance with the fee schedule, requirements, and procedures that the BLM established under the Federal Lands Recreation Enhancement Act, and are payable in U.S. funds only.

3. You must present the appropriate fee receipt upon demand to any authorized BLM official inspecting the site. The fee receipt must be visibly displayed on the fee tube, in accordance with posted instructions, or in the manner directed by a BLM official.

4. You must not reassign or transfer your fee receipt to another individual or group, or to another campsite.

5. Any authorized BLM official may revoke your use privileges, without reimbursement, if you violate any BLM rule or regulation. If the BLM revokes your use privileges, you must remove all personal property and leave the recreation site within one hour of notice.

6. A recreation site is considered occupied after you have paid the appropriate amenity fee, have taken possession of the site by placing personal property at the site, and have displayed the fee receipt on the fee tube in accordance with written instructions or as directed by a BLM official. You must not occupy a site in violation of instructions from a BLM official, or when there is reason to believe that the site is occupied by another person or persons.

7. Except for authorized Federal, State, or local personnel during the commission of their duties, a site cannot be occupied by other visitors without the consent of the party that paid the amenity use fee.

8. You must not occupy a site designated as “day use” between sunset and sunrise.

9. A single vessel and its occupants may not occupy more than one site.

10. During the hours of 10 p.m. to 6 a.m., in accordance with applicable state time zone standards, you must maintain quiet within normal hearing range of the designated recreation sites.

11. You must not cut or collect any firewood, including dead and down wood or any other vegetative material, at any shoreline site.

12. You must not moor vessels to vegetation, signs, shade ramadas, tables, grills or fire rings, toilets, trash receptacles, or other objects or structures not designed for such use.

13. You must not beach or moor a vessel in excess of posted time limits.

14. You must not discharge or possess any fireworks.

15. You must keep the site free of litter and trash during the period of occupancy. You must remove all personal property, and the site must be clean, upon your departure.

16. You must keep pets on a leash no longer than six (6) feet.

17. You must not leave pets unattended, and you must remove pet waste from the site or dispose of it in trash receptacles.

18. You must not violate any provisions of boating laws as described in Title 5, Chapter 3, of the Arizona Revised Statutes, or the California Harbors and Navigation Code (as applicable).

19. Possession of alcoholic beverages by a person under the age of 21 years is prohibited.

20. Consumption of alcoholic beverages by a person under the age of 21 years is prohibited.

21. You must not possess glass beverage containers on land or in the water. You may possess glass beverage containers only within the confines of a vessel.

22. Reserving recreation sites in any manner, including personal property left unattended overnight on site, is prohibited.

23. Recreation sites used for camping activities must be occupied overnight by the party that paid for such use.

24. You must not leave personal property unattended for more than 24 hours. Personal property left unattended beyond such time limit is subject to disposition under the Federal Property and Administrative Services Act of 1949, as amended (40 U.S.C. 552).

25. It is prohibited to engage in any uses which are dependent upon, make contact with, or impact those public lands which make up the shoreline or bottom of Lake Havasu, without the proper written authorization or without having paid the appropriate amenity fees.

Supplementary Rules for the Parker Strip Recreation Management Area

The preceding Lake Havasu Shoreline Area Supplementary Rules 1, 2, 3, 4, 5, 6, 7, 8, 14, 15, 16, 17, 18, 20, 21, 23, and 25, also apply to the Parker Strip Recreation Management Area. In addition, the following rules apply to the Parker Strip Recreation Management Area:

26. You must not park or operate vehicles in violation of posted restrictions.

27. Disorderly conduct is prohibited.

28. On BLM-managed campgrounds, no more than eight (8) persons may occupy one campsite.

29. The operation of off-highway vehicles within any BLM-managed campground, concession resort, or facility is prohibited. This includes, but is not limited to, off-road only motorcycles, three to eight wheel all terrain vehicles, and those motor vehicles of which the primary manufactured purpose is for off-highway, rough terrain, or non-highway utility usage. This prohibited use applies to all off-highway vehicles on the California side of the Parker Strip Recreation Management Area that are not specifically registered, insured, or legal in the State of California for highway operation. This prohibition is in effect regardless of registration or highway operations laws of another state or foreign jurisdiction. This prohibited use also applies to all off-highway vehicles on the Arizona side of the Parker Strip Recreation Management Area that are not specifically registered, insured, or legal for highway operation in the State of Arizona. This prohibition is in effect regardless of registration or highway operations laws of another state or foreign jurisdiction. Non-highway legal golf carts may be operated only within BLM-managed campgrounds, concession resorts, and facilities. Operation of an off-highway vehicle or golf cart upon any public highway or road, or the shoulders thereof, is prohibited. The operation of a golf cart by a person under 16 years of age is prohibited, unless under the immediate and direct supervision of a person over 21 years of age.

30. Camping within the Parker Strip Recreation Management Area is authorized at concession resorts, designated BLM campgrounds, or at least one-half mile from paved roads. Camping is prohibited in the parking or staging areas of the Copper Dunes Basin Off-Highway Vehicle Area and the Crossroads Off-Highway Vehicle Area. Dispersed camping between Parker Dam Road, the Whipple Mountains, and the adjacent Metropolitan Water District of Southern California (MWD) lands is allowed only in connection with off-highway vehicle recreational activities. Camping activities may not interfere with active off-highway vehicle use in any manner.

Supplementary Rules for Craggy Wash

1. You must maintain your campsite free of trash and litter.

2. You must not operate a motor vehicle at a speed more than 15 miles per hour.

3. You must maintain quiet between the hours of 10 p.m. and 6 a.m. within hearing range of any other person or camp unit. You must not operate a generator during these hours.

4. You must not collect firewood in this area, including any dead and down wood, or any other vegetative material.

5. You must restrain a pet with a leash not longer than six (6) feet.

6. You must not leave a pet unattended.

7. You must not possess or discharge fireworks.

8. You must not leave personal property unattended for more than 24 hours.

9. In the Craggy Wash area, camping is prohibited within one mile of the Lake Havasu City limits. Camping at Craggy Wash is limited to 14 days.

Supplementary Rules for Swansea Townsite

1. Taking any vehicle through, around, or beyond a restrictive sign, recognizable barricade, fence, or traffic control barrier is prohibited. Operation of a vehicle in a wash, off a roadway, or on an unsigned historic roadway is prohibited.

2. Camping is permitted only at designated sites. Camping stay is limited to 3 days in any 30-day period.

3. No wood collection is permitted within the Swansea Townsite, including but not limited to dead and down wood, live plants, and lumber from historic structures.

4. No item may be collected or removed from the Swansea Townsite without the written permission of the Lake Havasu Field Office Manager. This includes but is not limited to old cans, nails, lumber, bricks, or glassware, whole or broken. The use of metal detectors without written permission is prohibited.

5. Climbing, leaning, sitting, or walking on the remains of the walled structures at the Swansea Townsite inherently damages the structures, is unsafe, and is therefore prohibited. No person shall enter into any fenced area, shaft, tunnel, or structure.

6. Fires are allowed only at the designated sites and must be located in the fire ring provided. Construction of new fire rings is prohibited.

Penalties

Persons who are convicted of a violation of these supplementary rules may be sentenced to a fine not to exceed $100,000 or imprisonment not to exceed 12 months, or both, in accordance with 43 U.S.C. 1733(a), 43 CFR 8360.0-7, and 18 U.S.C. 3571.

Elaine Y. Zielinski,
State Director.

[FR Doc. E8-4120 Filed 3-3-08; 8:45 am]

BILLING CODE 4310-32-P